DEPARTMENT OF AGRICULTURE

Agricultural Marketing Service

[Doc No. AMS-FGIS-21-0035]

Request for Extension and Revision of a Currently Approved Information Collection

AGENCY: Agricultural Marketing Service, USDA.

ACTION: Notice and request for comments.

SUMMARY: In accordance with the Paperwork Reduction Act of 1995, the Agricultural Marketing Service (AMS) is announcing our intention to request a 3-year extension and revision of a currently approved information collection for “Export Inspection and Weighing Waiver for High Quality Specialty Grain Transported in Containers”.

DATES: Comments must be received by July 26, 2021.

ADDRESSES: Comments must be submitted through the Federal e-rulemaking portal at http://www.regulations.gov and should reference the document number and the date and page number of this issue of the Federal Register. All comments submitted in response to this notice will be included in the record and made available to the public. Please be advised the identity of individuals or entities submitting comments will be made public on the internet at the address provided above.

FOR FURTHER INFORMATION CONTACT: Jessica Dreier, Compliance Officer, Quality Assurance and Compliance Division, Federal Grain Inspection Service, AMS, USDA; email: FGISQACD@usda.gov.

SUPPLEMENTARY INFORMATION: Congress enacted The United States Grain Standards Act (USGSA) (7 U.S.C. 71-87k) to facilitate the marketing of grain in interstate and foreign commerce. The USGSA, with few exceptions, requires all grain shipped from the United States to be officially inspected and weighed. The USGSA authorizes the Department of Agriculture to waive the mandatory inspection and weighing requirements in circumstances when the objectives of the USGSA would not be impaired.

Section 7 CFR 800.18 of the regulations waives the mandatory inspection and weighing requirements of the USGSA for high quality specialty grain exported in containers. This waiver was established to facilitate the marketing of high quality specialty grain exported in containers. This action is consistent with the objectives of the USGSA and promotes the continuing development of the high quality specialty grain export market.

FGIS requires exporters to maintain records pertaining to these shipments and to make them available upon request for review or copying purposes (76 FR 45397). These records shall be maintained for a period of 3 years. This information collection requirement is essential to ensure exporters who ship high quality specialty grain in containers comply with the waiver provisions. FGIS does not require exporters of high quality specialty grain to complete and submit new Federal government record(s), form(s), or report(s).

Title: Export Inspection and Weighing Waiver for High Quality Specialty Grains Transported in Containers.

OMB Number: 0581-0306.

Expiration Date of Approval: August 31, 2021.

Type of Request: Extension and revision of a currently approved information collection.

Abstract: The regulations under the USGSA waive the mandatory inspection and weighing requirements for high quality specialty grain exported in containers. FGIS established this waiver to facilitate the marketing of high quality specialty grain exported in containers. To ensure compliance with this waiver, FGIS required these exporters to maintain records generated during their normal course of business that pertain to these shipments and make these documents available to FGIS upon request, for review and copying purposes.

Grain Contracts

Estimate of Burden: Public reporting and recordkeeping burden for maintaining contract information is estimated to average 6 hours per exporter.

Respondents: Exporters of high quality specialty grain in containers.

Estimated Number of Respondents: 40.

Estimated Total Annual Responses: 40.

Estimated Number of Responses per Respondent: 1.

Estimated Total Annual Burden on Respondents: 240.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Jessica Dreier at FGISQACD@usda.gov.

All responses to this notice will be summarized and included in the request for OMB approval. All comments will become a matter of public record.

Erin Morris,
Associate Administrator, Agricultural Marketing Service.

[FR Doc. 2021-11025 Filed 5-24-21; 8:45 am]

BILLING CODE P